SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1 through March 31, 2013.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f)

1. Chief Oil & Gas LLC, Pad ID: J. Brown Drilling Pad, ABR-201303001, Troy Township, Bradford County, Pa.; Consumptive Use of Up to 2.000 mgd; Approval Date: March 12, 2013.

2. Carrizo Marcellus, LLC, Pad ID: Tomkins, ABR-201303002, McNett Township, Lycoming County, Pa.; Consumptive Use of Up to 2.100 mgd; Approval Date: March 15, 2013.

3. Carrizo Marcellus, LLC, Pad ID: Hanlon, ABR-201303003, McNett Township, Lycoming County, Pa.; Consumptive Use of Up to 2.100 mgd; Approval Date: March 15, 2013.

4. Carrizo Marcellus, LLC, Pad ID: Baumunk Lake South, ABR-201303004, Fox Township, Sullivan County, Pa.; Consumptive Use of Up to 2.100 mgd; Approval Date: March 15, 2013.

5. Carrizo Marcellus, LLC, Pad ID: Baumunk Lake North, ABR-201303005, Fox Township, Sullivan County, Pa.; Consumptive Use of Up to 2.100 mgd; Approval Date: March 15, 2013.

6. Southwestern Energy Production Company, Pad ID: DRANN PAD, ABR-201303006, New Milford Township, Susquehanna County, Pa.; Consumptive Use of Up to 4.999 mgd; Approval Date: March 15, 2013.

7. Cabot Oil & Gas Corporation, Pad ID: MolnarM P1, ABR-201303007, Brooklyn Township, Susquehanna County, Pa.; Consumptive Use of Up to 3.575 mgd; Approval Date: March 15, 2013.

8. Chesapeake Appalachia, LLC, Pad ID: Jes, ABR-201303008, Wilmot Township, Bradford County, Pa.; Consumptive Use of Up to 7.500 mgd; Approval Date: March 15, 2013.

9. Chesapeake Appalachia, LLC, Pad ID: Lightcap, ABR-201303009, Overton and Elkland Townships, Bradford and Sullivan Counties, Pa.; Consumptive Use of Up to 7.500 mgd; Approval Date: March 15, 2013.

10. Chesapeake Appalachia, LLC, Pad ID: Lasher, ABR-201303010, Auburn Township, Susquehanna County, Pa.; Consumptive Use of Up to 7.500 mgd; Approval Date: March 15, 2013.

11. Cabot Oil & Gas Corporation, Pad ID: CastrogiovanniA P3, ABR-201303011, Bridgewater Township, Susquehanna County, Pa.; Consumptive Use of Up to 3.575 mgd; Approval Date: March 29, 2013.

12. Southwestern Energy Production Company, Pad ID: Marichini-Zingieser (Pad 9), ABR-201303012, Herrick Township, Bradford County, Pa.; Consumptive Use of Up to 4.999 mgd; Approval Date: March 29, 2013.

13. Chesapeake Appalachia, LLC, Pad ID: Virginia, ABR-201303013, Auburn Township, Susquehanna County, Pa.; Consumptive Use of Up to 7.500 mgd; Approval Date: March 29, 2013.

14. Cabot Oil & Gas Corporation, Pad ID: CarpenettiR P1, ABR-201303014, Lathrop Township, Susquehanna County, Pa.; Consumptive Use of Up to 3.575 mgd; Approval Date: March 29, 2013.

Authority: Pub. L. 91-575, 84 Stat. 1509 et seq., 18 CFR parts 806, 807, and 808.

Dated: April 30, 2013.
Stephanie L. Richardson,
Secretary to the Commission.

[FR Doc. 2013-11160 Filed 5-9-13; 8:45 am]

BILLING CODE 7040-01-P